DEPARTMENT OF THE INTERIOR

Bureau of Land Management

[AK-050-1430-EQ-P; AA-081894]

Notice of Realty Action; Issuance of a 5-Year Renewable Lease of Public Land, Caribou Lake, AL

AGENCY: Bureau of Land Management, Department of the Interior.

ACTION: Notice of realty action.

SUMMARY: The Bureau of Land Management (BLM) has determined that issuance of a 5-Year renewable land lease to resolve unauthorized use and occupancy of public land, approximately one (1) acre in size, on the shore of Caribou Lake, including an existing 10′x14′ cabin, located approximately 13 miles southeast of the rural community of Cantwell, Alaska, is consistent with the 1985 BLM Glennallen District Management Framework Plan and East Alaska Final Resource Management Plan/Environmental Impact Statement. This action is pursuant to section 302 (b) of the Federal Land Policy and Management Act of 1976, as amended, and 43 CFR 2920.0-6. The leasing of public land is within the authority of the Secretary of the Interior. The annual rental amount will be required to be paid in advance as outlined in 43 CFR 2920.8(a), and through Instruction Memorandum AK-2005-028.

DATES: Interested parties may submit comments to the Bureau of Land Management Glennallen Field Office Manager at the below stated address. Comments must be received not later than 45 days from publication date. Only written comments will be accepted. Before including your address, phone number, e-mail address, or other personal identifying information in your comment, you should be aware that your entire comment—including your personal identifying information—may be publicly available at any time. While you can ask us in your comment to withhold your personal identifying information from public review, we cannot guarantee that we will be able to do so.

ADDRESSES: Address all written comments concerning this Notice to Ramone McCoy, BLM Glennallen Field Office Manager, P.O. Box 147, Glennallen, Alaska 99588-0147.

FOR FURTHER INFORMATION CONTACT: Joseph Hart, Realty Specialist, by phone at (907) 822-3217, or by e-mail at joseph_hart@ak.blm.gov.

SUPPLEMENTARY INFORMATION: The site examined and found suitable for leasing under the provisions of section 302 (b) of the Federal Land Policy and Management Act of 1976 and 43 CFR 2920.0-6 is within Section 30, T. 19 S., R. 6 W., Fairbanks Meridian, Alaska, and is approximately one (1) acre in area. An application to lease the site will be accepted from only Ray Atkins to resolve an unauthorized use of public lands. An existing cabin was constructed on site by Ray Atkins with the safety concerns of many local residents in mind for use during harsh winter conditions that are common for this area of Alaska. Intended to be remote emergency shelter in times of need, the cabin will also be open and available for general public use year-round, except when the applicant will utilize the cabin in support of his guiding activities in the area during a short period in the fall. Any comments and application must include a reference to this notice. Fair market value rent, as required in 43 CFR 2920.8 and as determined by Instruction Memorandum AK-2005-028, will be collected for the use of these lands, as well as reasonable administrative, processing, and monitoring costs for processing the lease as required in 43 CFR 2920.6.

This determination was made upon completion of an Environmental Assessment, recommending that a one-acre site, be leased to Ray Atkins within Sec. 30, T. 19 S., R. 6 W., Fairbanks Meridian, Alaska, to authorize the use and occupancy of public lands and thereby resolve an unauthorized use(Authority: 43 CFR 2920.4(c)).

Ramone McCoy,
Field Office Manager, Glennallen Field Office.

[FR Doc. E7-14336 Filed 7-24-07; 8:45 am]

BILLING CODE 4310-JA-P